NATIONAL SCIENCE FOUNDATION

Special Emphasis Panel in Civil and Mechanical Systems; Notice of Meeting

In accordance with the Federal Advisory Committee Act (Public Law 92-463, as amended), the National Science Foundation announces the following meeting:

Name: Special Emphasis Panel in Civil and Mechanical Systems (1205).

Date/Time: April 26-27, 2001, 8:30 a.m. to 5 p.m.

Place: NSF, 4201 Wilson Boulevard, Arlington, VA.

Type of Meeting: Closed.

Contact Person: Priscilla P. Nelson, Division of Civil and Mechanical Systems, National Science Foundation, 4201 Wilson Blvd., Arlington, VA 22230. (703) 292-8360.

Purpose of Meeting: To provide advice and recommendations concerning proposals submitted to NSF for financial support.

Agenda: To review and evaluate proposals as a part of the selection process for awards.

Reason for Closing: The proposals being reviewed include information of a proprietary or confidential nature, including technical information, financial data, such as salaries, and personal information concerning individuals associated with the proposals. These matters are exempt under (4) and (6) of 5 U.S.C. 552b(c), of the Government in the Sunshine Act.

Reason For Late Notice: Conflicting schedules of members and the necessity to proceed with review of proposals.

Dated: April 17, 2001.
Susanne Bolton,
Committee Management Officer.

[FR Doc. 01-9848 Filed 4-19-01; 8:45 am]

BILLING CODE 7555-01-M